DEPARTMENT OF HEALTH AND HUMAN SERVICES

National Institutes of Health

National Institute of Mental Health; Amended Notice of Meeting

Notice is hereby given of a change in the meeting of the Interagency Autism Coordinating Committee, July 26, 2017, 09:00 a.m. to July 26, 2017, 05:00 p.m., National Institutes of Health, Building 31, 31 Center Drive, Conference Room 6, Bethesda, MD 20892 which was published in the Federal Register on April 03, 2017, 82 FR 16217.

The meeting is being amended to change the conference call access number from 1-800-323- 2720 to 1-888-323-2720. The meeting is open to the public.

Dated: July 18, 2017.
Melanie J. Pantoja,
Program Analyst, Office of Federal Advisory Committee Policy.

[FR Doc. 2017-15512 Filed 7-24-17; 8:45 am]

BILLING CODE 4140-01-P